DELAWARE RIVER BASIN COMMISSION

Notice of Commission Meeting and Public Hearing

Notice is hereby given that the Delaware River Basin Commission will hold a public hearing on Tuesday, March 5, 2013. A business meeting will be held the following day on Wednesday, March 6, 2013. Both the hearing and business meeting are open to the public and will be held at the Commission's office building located at 25 State Police Drive, West Trenton, New Jersey.

Public Hearing. The public hearing on March 5, 2013 will run from 1:00 p.m. until approximately 4:00 p.m. The list of projects scheduled for hearing, with descriptions, is currently available in a long form of this notice posted on the Commission's Web site, www.drbc.net. Draft dockets and resolutions for hearing items will be posted on the Web site approximately ten days prior to the hearing date. Because hearings on particular projects may be postponed to allow additional time for the commission's review, interested parties are advised to check the Web site periodically prior to the hearing date. Postponements, if any, will be duly noted there.

Public Meeting. The business meeting on March 6, 2013 will begin at 12:15 p.m. and will include the following items: adoption of the Minutes of the Commission's December 5, 2012 business meeting, announcements of upcoming meetings and events, a report on hydrologic conditions, reports by the Executive Director and the Commission's General Counsel, consideration of items for which a hearing has been completed, and a public dialogue session. The Commissioners also may consider action on matters not subject to a public hearing.

There will be no opportunity for additional public comments at the March 6 business meeting on items for which a hearing was completed on March 5 or a previous date. Commission consideration on March 6 of items for which the public hearing is closed may result in either approval of the docket or resolution as proposed, approval with changes, denial, or deferral. When the commissioners defer an action, they may announce an additional period for written comment on the item, with or without an additional hearing date, or they may take additional time to consider the input they have already received without requesting further public input. Any deferred items will be considered for action at a public meeting of the commission on a future date.

Advance sign-up for oral comment. Individuals who wish to comment for the record at the public hearing on March 5th or to address the Commissioners informally during the public dialogue portion of the meeting on March 6 are asked to sign up in advance by contacting Ms. Paula Schmitt of the Commission staff, at paula.schmitt@drbc.state.nj.us or by phoning Ms. Schmitt at 609-883-9500 ext. 224.

Addresses for written comment. Written comment on items scheduled for hearing may be delivered by hand at the public hearing or submitted in advance of the hearing date to: Commission Secretary, P.O. Box 7360, 25 State Police Drive, West Trenton, NJ 08628; by fax to Commission Secretary, DRBC at 609-883-9522 or by email to paula.schmitt@drbc.state.nj.us. Written comment on dockets should also be furnished directly to the Project Review Section at the above address or fax number or by email to william.muszynski@drbc.state.nj.us.

Accommodations for Special Needs. Individuals in need of an accommodation as provided for in the Americans with Disabilities Act who wish to attend the informational meeting, conference session or hearings should contact the Commission Secretary directly at 609-883-9500 ext. 203 or through the Telecommunications Relay Services (TRS) at 711, to discuss how we can accommodate your needs.

Updates. Items scheduled for hearing are occasionally postponed to allow more time for the Commission to consider them. Other meeting items also are subject to change. Please check the Commission's Web site, www.drbc.net, closer to the meeting date for changes that may be made after the deadline for filing this notice.

Additional Information, Contacts. The list of projects scheduled for hearing, with descriptions, is currently available in a long form of this notice posted on the Commission's Web site, www.drbc.net. Draft dockets and resolutions for hearing items will be posted as hyperlinks from the notice at the same location approximately ten days prior to the hearing date. Additional public records relating to hearing items may be examined at the Commission's offices by appointment by contacting Carol Adamovic, 609-883-9500, ext. 249. For other questions concerning hearing items, please contact Project Review Section Assistant Victoria Lawson at 609-883-9500, ext. 216.

Dated: February 7, 2013.
Pamela M. Bush,
Commission Secretary and Assistant General Counsel.

[FR Doc. 2013-03281 Filed 2-12-13; 8:45 am]

BILLING CODE 6360-01-P